FEDERAL MARITIME COMMISSION

Sunshine Act Meeting

Agency Holding the Meeting: Federal Maritime Commission

Time and Date: 10:00 A.M.-January 21, 2004

Place: 800 North Capitol Street, NW, First Floor Hearing Room, Washington, DC.

Status: Closed.

Matters to be Considered:

1. Petition No. P3-99—Petition of China Ocean Shipping (Group) Company for a Partial Exemption from the Controlled Carrier Act.

2. Petition No. P4-03—Petition of China Shipping Container Lines Co., Ltd. for Permanent Full Exemption From the First Sentence of Section 8(C) of the Shipping Act of 1984.

3. Petition No. P6-03—Petition of SINOTRANS Container Lines Co., Ltd. (SINOLINES) for a Full Exemption From the First Sentence of Section 8(c) of the Shipping Act of 1984, as amended.

4. Docket No. 98-14—Shipping Restrictions, Requirements and Practices of the People's Republic of China

FOR FURTHER INFORMATION CONTACT: Bryant L. VanBrakle, Secretary, (202) 523-5725.

Bryant L. VanBrakle,
Secretary.

[FR Doc. 03-32340 Filed 12-31-03; 3:56 am]

BILLING CODE 6730-01-M